DEPARTMENT OF HEALTH AND HUMAN SERVICES

Administration for Community Living

Agency Information Collection Activities; Submission for OMB Review; Public Comment Request; Process Evaluation of the Aging Network and Its Return on Investment; OMB #0985-New

AGENCY: Administration for Community Living, HHS.

ACTION: Notice.

SUMMARY: The Administration for Community Living is announcing that the proposed collection of information listed above has been submitted to the Office of Management and Budget (OMB) for review and clearance as required under section 506(c)(2)(A) of the Paperwork Reduction Act of 1995. This 30-Day notice collects comments on the information collection requirements related to the information collection requirements for the Process Evaluation of the Aging Network and its Return on Investment [OMB #0985-New].

DATES: Submit written comments on the collection of information by March 10, 2022.

ADDRESSES: Submit written comments and recommendations for the proposed information collection within 30 days of publication of this notice to www.reginfo.gov/public/do/PRAMain. Find the information collection by selecting “Currently under 30-day Review—Open for Public Comments” or by using the search function. By mail to the Office of Information and Regulatory Affairs, OMB, New Executive Office Bldg., 725 17th St. NW, Rm. 10235, Washington, DC 20503, Attn: OMB Desk Officer for ACL.

FOR FURTHER INFORMATION CONTACT: Caryn Bruyere, Office of Performance and Evaluation. Administration for Community Living Telephone: 202-795-7393 Email: caryn.bruyere@acl.hhs.gov.

SUPPLEMENTARY INFORMATION: In compliance with 44 U.S.C. 3507, ACL has submitted the following proposed collection of information to OMB for review and clearance. The Administration for Community Living (ACL) is requesting approval to collect data for the Process Evaluation of the Aging Network and its Return on Investment [OMB #0985-New]. Many older adults have unmet health care and social service needs, which require coordinated care across a range of services, including access to nutritious meals, transportation, preventive health care, home and community-based care, social interaction, support for family caregivers, and advocacy to help maintain older adults' safety, dignity, and legal rights. This proposed data collection for the Process Evaluation of the Aging Network and its Return on Investment is intended to provide timely information on, (1) how agencies in the Aging Network collaborate to serve older adults and family caregivers, and (2) how agencies measure the effectiveness of their efforts with the goal of strengthening their reach and impact. Through this data collection ACL will investigate how states differ in their network structure, how agencies work together, and potential strategies for evaluating return on investments (ROI) of ACL programs.

The Process Evaluation of the Aging Network and its Return on Investment will include: (1) A census of agencies in the Aging Network, and (2) key informant interviews with agencies that are evaluating ROI. The survey seeks to collect data from all State Units on Aging (SUAs), Area Agencies on Aging (AAAs) (including some Aging and Disability Resource Centers), and Older Americans Act Title VI Native American tribal organizations. Surveying these organizations will help ACL understand how and with whom agencies in the network collaborate to address the needs of older adults and family caregivers, partnerships that have formed or expanded because of COVID-19, and how agencies measure the effectiveness and ROI of their various programs. The study will also include key informant interviews with a subset of 10 agencies that responded to the survey whose responses indicate that their agency is evaluating ROI. The data collection team will ask in-depth questions about the costs and benefits included in ROI calculations, successes and challenges to evaluating ROI, and lessons learned that could benefit other agencies seeking to conduct their own assessment of ROI.

Comments in Response to the 60-Day Federal Register Notice

A notice published in the Federal Register on, August 30, 2021 in 86 FR 48428. There were no substantive public comments received during the 60-day FRN.

Estimated Program Burden: ACL estimates the burden associated with this collection of information as follows:

The proposed data collection estimates the average burden per response to be 0.17 hours for the Aging Network survey. The average burden per response for the key informant interviews estimated as 1 hour.

Data collection activity | Annual number of respondents | Number of responses per respondent | Total number of responses | Average burden per response (in hours) | Annual estimated burden hours
Aging Network survey | 864 | 1 | 864 | 0.25 | 216
Key informant interview guide | 10 | 1 | 10 | 1 | 10
Total | 874 | Varies | 874 | 0.26 (weighted mean) | 226

Dated: February 3, 2022.
Alison Barkoff,
Principal Deputy Administrator.

[FR Doc. 2022-02578 Filed 2-7-22; 8:45 am]

BILLING CODE 4154-01-P